FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)).

The comment period for this application has been extended. Comments regarding this application must be received at the Reserve Bank indicated or the offices of the Board of Governors not later than January 31, 2016.

A. Federal Reserve Bank of Cleveland (Nadine Wallman, Vice President) 1455 East Sixth Street, Cleveland, Ohio 44101-2566:

1. KeyCorp, Cleveland, Ohio; to acquire First Niagara Financial Group, Inc., and thereby acquire control of its subsidiary bank, First Niagara Bank, National Association, both in Buffalo, New York.

Board of Governors of the Federal Reserve System, December 24, 2015.
Michael J. Lewandowski,
Associate Secretary of the Board.

[FR Doc. 2015-32838 Filed 12-29-15; 8:45 am]

BILLING CODE 6210-01-P